DEPARTMENT OF HOUSING AND URBAN DEVELOPMENT

[Docket No. FR-4971-N-34]

Notice of Submission of Proposed Information Collection to OMB; Assisted Living Conversion Program (ALCP) & Emergency Capital Repair Program (ECRP)

AGENCY: Office of the Chief Information Officer, HUD.

ACTION: Notice.

SUMMARY: The proposed information collection requirement described below has been submitted to the Office of Management and Budget (OMB) for review, as required by the Paperwork Reduction Act. The Department is soliciting public comments on the subject proposal.

The Assisted Living Conversion Program (ALCP) provides funding for the physical costs of converting some or all of the units of an eligible multifamily development into an assisted living facility. Funding available through the Emergency Capital Repair Program (ECRP) provides funds for substantial capital repairs to eligible multifamily projects with elderly tenants that are needed to rehabilitate, modernize, or retrofit aging structure, common areas, or individual dwelling units. HUD will use this information to determine an applicant's need for and capacity to administer grant funds.

DATES: Comments Due Date: July 27,2005.

ADDRESSES: Interested persons are invited to submit comments regarding this proposal. Comments should refer to the proposal by name and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; or Lillian Deitzer at Lillian_L_Deitzer@HUD.gov or telephone (202) 708-2374. This is not a toll-free number. Copies of available documents submitted to OMB may be obtained from Mr. Eddins or Ms. Deitzer or from HUD's Web site at http://hlannwp031.hud.gov/po/i/icbts/collectionsearch.cfm.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Assisted Living Conversion Program (ALCP) & Emergency Capital Repair Program (ECRP).

OMB Approval Number: 2502-0542.

Form Numbers: SF424, SF-424 Supplemental, HUD-424B, SFLLL, HUD-2880, HUD-2990, HUD-2991, HUD-2530, HUD-96010, HUD-50080-ALCP, SF269, HUD-50080-ECRP, HUD-27300, HUD-92045, ECRP Rental Use Agreement.

Description of the Need for the Information and Its Proposed Use:

The Assisted Living Conversion Program (ALCP) provides funding for the physical costs of converting some or all of the units of an eligible multifamily development into an assisted living facility. Funding available through the Emergency Capital Repair Program (ECRP) provides funds for substantial capital repairs to eligible multifamily projects with elderly tenants that are needed to rehabilitate, modernize, or retrofit aging structure, common areas, or individual dwelling units. HUD will use this information to determine an applicant's need for and capacity to administer grant funds.

Frequency of Submission: On occasion, Quarterly, Semi-annually, Annually.

Reporting burden: | Number of respondents | Annual responses | × | Hours per response | = | Burden hours
| 90 | 5.1 |  | 4.6 |  | 2,120

Total Estimated Burden Hours: 2,120.

Status: Extension of a currently approved collection.

Authority: Section 3507 of the Paperwork Reduction Act of 1995, 44 U.S.C. 35, as amended.

Dated: June 20, 2005.
Donna Eden,
Director, Investment Strategies, Policy & Management, Office of the Chief Information Officer.

[FR Doc. 05-12611 Filed 6-24-05; 8:45 am]

BILLING CODE 4210-72-P